NUCLEAR WASTE TECHNICAL REVIEW BOARD

Board Meeting: January 29-30, 2002—Pahrump, Nevada: The Nuclear Waste Technical Review Board Will Hold a Meeting To Discuss Issues Related to the Department of Energy's (DOE) Characterization of a Potential Repository Site at Yucca Mountain, Nevada. A Program Overview and Scientific Updates Will Be Presented. Other Topics Included recently Issued DOE Documents Related to Site Recommendation and Analyses of the DOE's Total System Performance Assessment

Pursuant to its authority under section 5051 of Public Law 100-203, Nuclear Waste Policy Amendments Act of 1987, on Tuesday, January 29, and Wednesday, January 30, 2002, the Nuclear Waste Technical Review Board (Board) will hold a meeting in Pahrump, Nevada, to discuss the status of U.S. Department of Energy (DOE) efforts to characterize a site at Yucca Mountain, Nevada, as the possible location of a permanent repository for spent nuclear fuel and high-level radioactive waste. Among other things, representatives of the DOE and other agencies and groups will present scientific updates on research related to Yucca Mountain and on the results of recently issued studies related to the technical basis for a decision by the Secretary of Energy on whether to recommend Yucca Mountain for repository development. The meeting is open to the public, and opportunities for public comment will be provided. The Board is charged by Congress with reviewing the technical and scientific validity of DOE activities related to managing spent nuclear fuel and high-level radioactive waste.

The meeting will be held at the Bob Ruud Community Center, 150 North Highway 160, Pahrump, Nevada 89048. The pay-phone number for the community center is (775) 727-9991. The meeting sessions will begin at 8:30 a.m. on both days.

The full-day session on Tuesday will begin with a general overview of the DOE program and a briefing on the regulatory framework for a site recommendation. These presentations will be followed by scientific updates in several areas, including fluid inclusions, chlorine-36 studies, saturated zone modeling, and other scientific investigations. Discussions of findings of the U.S. Geological Survey, and comments on the DOE's Total System Performance Assessment by the Nuclear Regulatory Commission's (NRC's) Advisory Committee on Nuclear Waste, an international peer review group, and others, will follow.

On Wednesday, discussions will continue on recently released documents, including a report by the DOE on uncertainty and the DOE's Technical Update Information Letter Report. Following these presentations, representatives of the NRC will comment on the NRC's “sufficiency” review. The meeting is scheduled to adjourn at approximately 12:30 p.m.

Opportunities for public comment will be provided before lunch on Tuesday and before adjournment on both days. Those wanting to speak during the public comment periods are encouraged to sign the “Public Comment Register” at the check-in table. A time limit may have to be set on individual remarks, but written comments of any length may be submitted for the record. Interested parties also will have the opportunity to submit questions in writing to the Board. As time permits, the questions will be answered during the meeting. In addition, on Wednesday, from 7:30 a.m. to 8:15 a.m., Board members will host a “coffee and donuts” get together for members of the public attending the meeting at the Bob Ruud Community Center.

A detailed agenda will be available approximately one week before the meeting. Copies of the agenda can be requested by telephone or obtained from the Board's Web site at www.nwtrb.gov. Beginning on March 4, 2002, transcripts of the meeting will be available on the Board's Web site, via e-mail, on computer disk, and on a library-loan basis in paper format from Davonya Barnes of the Board staff.

A block of rooms has been reserved at the Best Western Pahrump Station, 1101 South Highway 160, Pahrump, Nevada 89048; (tel) 775-751-5100; (fax) 775-751-1325. When making a reservation, please state that you are attending the Nuclear Waste Technical Review Board meeting.

For more information, contact the NWTRB; Karyn Severson, External Affairs; 2300 Clarendon Boulevard, Suite 1300; Arlington, VA 22201-3367; (tel) 703-235-4473; (fax) 703-235-4495; (e-mail) info@nwtrb.gov.

The Nuclear Waste Technical Review Board was created by Congress in the Nuclear Waste Policy Amendments Act of 1987. The Board's purpose is to evaluate the technical and scientific validity of activities undertaken by the Secretary of Energy related to managing the disposal of the nation's spent nuclear fuel and high-level radioactive waste. In the same legislation, Congress directed the DOE to characterize a site at Yucca Mountain, Nevada, to determine its suitability as the location of a potential repository for the permanent disposal of spent nuclear fuel and high-level radioactive waste.

Dated: December 21, 2001.
William D. Barnard,
Executive Director, Nuclear Waste Technical Review Board.

[FR Doc. 01-32025 Filed 12-28-01; 8:45 am]

BILLING CODE 6820-AM-M